DEPARTMENT OF COMMERCE

National Telecommunications and Information Administration

Performance Reporting System (PRS) for the Technology Opportunities Program (TOP)

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 4, 2001.

ADDRESSES: Direct all written comments to Madeleine Clayton, Departmental Paperwork Clearance Officer, Department of Commerce, Room 6086, 1401 Constitution Avenue NW, Washington, DC 20230 (or via the Internet mclayton@doc.gov).

FOR FURTHER INFORMATION CONTACT: Requests for additional information or copies of the information collection instrument and instructions should be directed to Clifton Beck, NTIA, Room H-4888, U.S. Department of Commerce, 1401 Constitution Avenue NW, Washington, DC 20230 (or via the Internet cbeck@ntia.doc.gov).

SUPPLEMENTARY INFORMATION:

I. Abstract

The purpose of the Technology Opportunities Program (TOP), formerly the Telecommunications and Information Infrastructure Assistance Program (TIIAP), is to promote the widespread and efficient use of advanced telecommunications services in the public and non-profit sectors to serve America's communities.

The program has the following objectives:

• To promote the widespread availability and use of digital network technologies;

• To increase the awareness in public and non-profit sectors of digital networking technologies and their benefits;

• To stimulate public and non-profit sector organizations to examine potential benefits of, and plan for, investments in digital network technologies;

• To provide a wide variety of model digital network technology projects for public and non-profit sector organizations to follow;

• To educate the public and non-profit sectors about best practices in implementing a wide variety of digital network projects; and,

• To help reduce disparities in access to, and use of, digital network technologies.

The National Telecommunications and Information Administration (NTIA), in administering TOP, has awarded 456 grants, in all 50 states, the District of Columbia, and the U.S. Virgin Islands. In order to ensure that grant recipients are effectively promoting the efficient and widespread use of advanced telecommunications services to serve American communities and to comply with the Government Performance and Results Act, NTIA will collect and analyze quantitative and qualitative data relating to start-up documentation, quarterly and annual progress reports, and close-out documentation on TOP-funded projects.

NTIA seeks a mechanism whereby it can evaluate the impacts of its projects on an ongoing basis, monitor grants more efficiently and effectively, and provide timely technical assistance to grant recipients. To enable the Program to monitor and to analyze the impacts of the funded projects, TOP seeks to incorporate standardized quantitative and qualitative data elements into an online structured reporting system. The reporting system will include a set of core data elements that apply to all projects.

II. Method of Collection

Data will be collected through the use of automated collection techniques. The information collection instrument to be used for this study will include a web-based structured reporting system for both quantitative and qualitative project information.

III. Data

OMB Number: 0660-0015.

Form Number: None.

Type of Review: Regular Submission.

Affected Public: State, Local, and Tribal Government and Non-Profit Institutions.

Estimated Number of Respondents: 50.

Estimated Time Per Response: Start-Up Documentation, 20 hours; Progress Reports, 4 hours; Annual Report, 0.5 hours; Final Closeout Report, 20 hours.

Estimated Total Annual Burden Hours: 2,807.

Estimated Total Annual Cost to the Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents.

Comments submitted in response to this notice will be summarized and/or included in the request of OMB approval of the information collection; they also become a matter of public record.

Dated: July 2, 2001.
Madeleine Clayton,
Departmental Paperwork Clearance Officer, Office of the Chief Information Officer.

[FR Doc. 01-16978 Filed 7-5-01; 8:45 am]

BILLING CODE 3510-60-P